DEPARTMENT OF EDUCATION

Applications for New Awards; Personnel Development To Improve Services and Results for Children With Disabilities—Personnel Preparation of Special Education, Early Intervention, and Related Services Personnel at Historically Black Colleges and Universities, Tribally Controlled Colleges and Universities, and Other Minority Serving Institutions

AGENCY: Office of Special Education and Rehabilitative Services, Department of Education.

ACTION: Notice.

SUMMARY: The Department of Education (Department) is issuing a notice inviting applications for new awards for fiscal year (FY) 2024 for Personnel Development to Improve Services and Results for Children with Disabilities—Personnel Preparation of Special Education, Early Intervention, and Related Services Personnel at Historically Black Colleges and Universities, Tribally Controlled Colleges and Universities, and Other Minority Serving Institutions, Assistance Listing Number (ALN) 84.325M. This notice relates to the approved information collection under OMB control number 1820-0028.

DATES: Applications Available: December 7, 2023.

Deadline for Transmittal of Applications: February 20, 2024.

Deadline for Intergovernmental Review: April 22, 2024.

Pre-Application Webinar Information: No later than December 12, 2023, the Office of Special Education and Rehabilitative Services will post details on pre-recorded informational webinars designed to provide technical assistance to interested applicants. Links to the webinars may be found at https://www2.ed.gov/fund/grant/apply/osep/new-osep-grants.html.

ADDRESSES: For the addresses for obtaining and submitting an application, please refer to our Common Instructions for Applicants to Department of Education Discretionary Grant Programs, published in the Federal Register on December 7, 2022 (87 FR 75045) and available at www.federalregister.gov/documents/2022/12/07/2022-26554/common-instructions-for-applicants-to-department-of-education-discretionary-grant-programs.

FOR FURTHER INFORMATION CONTACT: Tracie Dickson, U.S. Department of Education, 400 Maryland Avenue SW, room 4A10, Washington, DC 20202. Telephone: 202-245-7844. Email: Tracie.Dickson@ed.gov.

If you are deaf, hard of hearing, or have a speech disability and wish to access telecommunications relay services, please dial 7-1-1.

SUPPLEMENTARY INFORMATION:

Full Text of Announcement

I. Funding Opportunity Description

Purpose of Program: The purposes of this program are to (1) help address State-identified needs for personnel preparation in special education, early intervention, related services, and regular education to work with children, including infants, toddlers, and youth with disabilities; and (2) ensure that those personnel have the necessary skills and knowledge, derived from practices that have been determined through scientifically based research, to be successful in serving those children.

Priority: This competition includes one absolute priority and, within that absolute priority, one competitive preference priority. In accordance with 34 CFR 75.105(b)(2)(v), the absolute priority is from allowable activities specified in the statute (see sections 662 and 681 of the Individuals with Disabilities Education Act (IDEA) (20 U.S.C. 1462 and 1481)).

Absolute Priority: For FY 2024 and any subsequent year in which we make awards from the list of unfunded applications from this competition, this priority is an absolute priority. Under 34 CFR 75.105(c)(3), we consider only applications that meet this priority.

This priority is:

Personnel Preparation of Special Education, Early Intervention, and Related Services Personnel at Historically Black Colleges and Universities, Tribally Controlled Colleges and Universities, and other Minority Serving Institutions.

Background

The purpose of this priority is to prepare scholars who are fully credentialed to serve children, including infants, toddlers, and youth, with disabilities (children with disabilities). The Department is committed to promoting equity for children with disabilities in accessing educational resources and opportunities. The Department also places a high priority on increasing the number of personnel, including increasing personnel from racially and ethnically diverse backgrounds and personnel who are multilingual, who provide services to children with disabilities. To support these goals, under this absolute priority, the Department will fund projects within Historically Black Colleges and Universities (HBCUs), Tribally Controlled Colleges and Universities (TCCUs), and other Minority Serving Institutions (MSIs) that prepare special education, early intervention, and related services personnel at the bachelor's degree, certification, master's degree, educational specialist degree, or clinical doctoral degree levels to serve in a variety of settings, including natural environments (the home and community settings in which children with and without disabilities participate), early learning programs, child care, classrooms, schools, and distance learning.

Over time, the population of children receiving services under the IDEA is increasingly racially and ethnically diverse. In 2021, approximately 50 percent of infants and toddlers with disabilities, ages birth through two, were children of color; approximately 49 percent of preschool children with disabilities, ages three through five (not in kindergarten), were from racially and ethnically diverse backgrounds; while approximately 54 percent of students with disabilities, ages five (in kindergarten) through 21, were from racially and ethnically diverse backgrounds (U.S. Department of Education, 2022a).

While children of color make up approximately 54 percent of public school enrollment (National Center for Education Statistics, 2022) and greater than 50 percent of children receiving early intervention and special education services, results from the 2020-2021 National Teacher and Principal Survey (U.S. Department of Education, 2022b) show that about 80 percent of all public K-12 school teachers were non-Hispanic White.

Moreover, the demographics of personnel entering the early intervention and special education fields are not aligned with the demographics of the children and families served under IDEA, though IDEA specifically authorizes grants to recruit and prepare personnel, especially from groups that are underrepresented in the teaching profession. The U.S. Department of Education Office of Special Education Programs (OSEP) Personnel Development Program Data Collection System data reveals that scholars supported under this program are predominantly White. Specifically, the race/ethnicity of scholars obtaining a graduate degree to serve children with disabilities in FY 2020 was 65.8 percent White, 14.5 percent Hispanic, 11.5 percent Black, 3.9 percent Asian, 0.7 percent American Indian or Alaska Native, 1.4 percent Native Hawaiian or Other Pacific Islander, and 2.2 percent Two or More Races. Similarly, data from related services professional organizations reveal that the majority of those enrolled in related service personnel preparation programs are White (American Occupational Therapy Association, 2022; American Speech-Language Hearing Association, 2021; Data USA, 2022).

The data demonstrate that there is insufficient ethnic and racial diversity among special education, early intervention, and related service personnel (Ondrasek et al., 2020; Carver-Thomas, 2018; Sutcher et al., 2016). This lack of diversity is of concern, as research indicates that increasing the racial, ethnic, and linguistic diversity of personnel can have positive impacts on all children. Children of color and children who are multilingual, with and without disabilities, demonstrate improved academic achievement and behavioral and social and emotional development when they are taught by teachers who are from racially and ethnically diverse backgrounds and multilingual teachers (Bryan, 2021; Carver-Thomas, 2018, April). States and policymakers are also highlighting the need to address the lack of racial and ethnic diversity of those working in early intervention and special education and are recognizing the need to develop career pathways and comprehensive strategies to recruit, prepare, develop, and retain educators from racially and ethnically diverse backgrounds (Carver-Thomas, 2018; Colorado Department of Higher Education, 2022; Gardner et al., 2019).

Priority

The purpose of this priority is to prepare and increase the number of personnel, including personnel from racially and ethnically diverse backgrounds and personnel who are multilingual, who are fully credentialed to serve children with disabilities. Under this absolute priority, the Department will fund projects within HBCUs,¹ TCCUs,² and other MSIs ³ that prepare scholars ⁴ in special education, early intervention, and related services ⁵ at the bachelor's degree, certification,⁶ master's degree, educational specialist degree, or clinical doctoral degree levels to serve in a variety of settings, including natural environments (the home and community settings in which children with and without disabilities participate), early learning programs, child care, classrooms, schools, and distance learning. This priority will provide support to help address identified needs for personnel, including personnel from racially and ethnically diverse backgrounds and personnel who are multilingual, with the knowledge and skills to promote high expectations and provide effective evidence-based ⁷ interventions and services that improve outcomes for children with disabilities, including children of color with disabilities and children with disabilities who are multilingual.

¹ For purposes of this priority, “Historically Black Colleges and Universities” means colleges and universities that meet the criteria in 34 CFR 608.2.

² For purposes of this priority, “Tribally Controlled Colleges and Universities” has the meaning ascribed to it in section 316(b)(3) of the HEA of 1965.

³ For purposes of this priority, “Minority-Serving Institution” means an institution that is eligible to receive assistance under sections 316 through 320 of part A of title III, under part B of title III, or under title V of the HEA. For purposes of this priority, the Department will use the FY 2023 Eligibility Matrix to determine MSI eligibility (see https://www2.ed.gov/about/offices/list/ope/idues/eligibility.html).

⁴ For the purposes of this priority, “scholar” is limited to an individual who: (a) is pursuing a bachelor's, certification, master's, educational specialist degree, or clinical doctoral degree in special education, early intervention, or related services (as defined in this notice); (b) receives scholarship assistance as authorized under section 662 of IDEA (34 CFR 304.3(g)); (c) will be eligible for a license, endorsement, or certification from a State or national credentialing authority following completion of the degree program identified in the application; and (d) will be able to be employed in a position that serves children with disabilities for a minimum of 51 percent of their time or case load. Individuals pursuing degrees in general education or early childhood education do not qualify as “scholars” eligible for scholarship assistance.

⁵ For the purposes of this priority, “related services” includes the following: speech-language pathology and audiology services; assistive technology services; interpreting services; intervener services; psychological services; applied behavior analysis; physical therapy and occupational therapy; recreation, including therapeutic recreation; artistic and cultural services, including music, art, dance and movement therapy; social work services; counseling services, including rehabilitation counseling; and orientation and mobility services.

⁶ For the purposes of this priority, “certification” refers to programs of study for individuals with bachelor's, master's, educational specialist, or clinical doctoral degrees that lead to licensure, endorsement, or certification from a State or national credentialing authority following completion of the degree program that qualifies graduates to teach or provide services to children with disabilities. Programs of study that lead to a certificate of completion awarded from an HBCU, TCCU, or MSI, but do not lead to licensure, endorsement, or certification from a State or national credentialing authority, do not qualify.

⁷ For the purposes of this priority, “evidence-based” means, at a minimum, evidence that demonstrates a rationale (as defined in 34 CFR 77.1), where a key project component (as defined in 34 CFR 77.1) included in the project's logic model (as defined in 34 CFR 77.1) is informed by research or evaluation findings that suggest the project component is likely to improve relevant outcomes (as defined in 34 CFR 77.1).

Note: Projects may include individuals who are not funded as scholars, but are in degree programs (e.g., general education, early childhood education, administration) that are cooperating with the grantee's project. These individuals may participate in the coursework, assignments, field or clinical experiences, and other opportunities required by the scholars' program of study (e.g., speaker series, monthly seminars) if doing so does not diminish the benefit for project-funded scholars (e.g., by reducing funds available for scholar support or limiting opportunities for scholars to participate in project activities).

Note: Personnel preparation degree programs that prepare all scholars to be dually certified can qualify under this priority.

Note: Applicants under this priority may not submit the same proposal under Preparation of Related Services Personnel Serving Children with Disabilities who have High-Intensity Needs, ALN 84.325R. Applicants may submit substantively different proposals under ALN 84.325M and ALN 84.325R. OSEP may fund applications out of rank order based on funding decisions across ALN 84.325M and ALN 84.325R in FY 2024 to ensure that similar personnel preparation projects are not funded within the same institution of higher education (IHE) across the ALN 84.325M and ALN 84.325R competitions.

Focus Areas

Within this absolute priority, the Secretary intends to support projects under the following two focus areas: (A) Preparing Personnel to Serve Infants, Toddlers, and Preschool-Age Children with Disabilities; and (B) Preparing Personnel to Serve School-Age Children with Disabilities.

Applicants must identify the specific focus area (i.e., A or B) under which they are applying as part of the competition title on the application cover sheet (SF 424, line 12). Applicants may not submit the same proposal under both Focus Area A and B. However, applicants may submit substantively different proposals for Focus Areas A and B. OSEP may fund out of rank order applications from HBCUs and TCCUs to increase the number of funded applications from these institutions. OSEP may also fund applications out of rank order to ensure that projects are funded in both Focus Area A and Focus Area B.

Focus Area A: Preparing Personnel to Serve Infants, Toddlers, and Preschool-Age Children with Disabilities.

This focus area is for projects that prepare early intervention, early childhood special education, and related services personnel, including scholars from racially and ethnically diverse backgrounds and scholars who are multilingual, to provide services to infants, toddlers, and preschool children with disabilities. Programs preparing early intervention special educators and early childhood special educators must prepare graduates to meet State and national professional organization standards for early intervention special educators and early childhood special educators such as the Division of Early Childhood (DEC) Initial Practice-Based Professional Preparation Standards for Early Intervention/Early Childhood Special Education (DEC, 2020). In States where certification in early intervention is combined with certification in early childhood special education, applicants may propose a combined early intervention and early childhood special education personnel preparation project under this focus area. In States where the certification age range is other than birth through five, applicants must propose a preparation project that complies with the State's certification requirements for early intervention and early childhood special education personnel. Programs that prepare general early childhood educators are not eligible under this competition regardless of whether a degree in early childhood education complies with the State's certification requirements for early intervention special educators or early childhood special educators.

Focus Area B: Preparing Personnel to Serve School-Age Children with Disabilities. This focus area is for projects that prepare special education and related services personnel, including personnel from racially and ethnically diverse backgrounds and personnel who are multilingual, to work with school-age children with disabilities.

Focus Areas A and B

Applicants may, but are not required to, use up to the first 12 months of the project period and up to $100,000 awarded in the first budget period for planning, including enhancing an existing program, without enrolling scholars. If an applicant chooses to use the first year for program planning, then the applicant must provide sufficient justification for requesting program planning time and include the goals, objectives, key personnel and collaborators, and intended outcomes of program planning in year one, a description of the proposed strategies and activities to be supported, and a timeline for the work. The proposed strategies may include activities such as—

(1) Updating coursework, course outcomes, scholar competencies, assignments, or extensive and coordinated field or clinical experiences needed to support preparation for special education, early intervention, or related services scholars, including scholars from racially and ethnically diverse backgrounds, scholars who are multilingual, and scholars with disabilities serving children with disabilities, including children of color with disabilities and children with disabilities who are multilingual;

(2) Building the capacity (e.g., hiring a field supervisor, providing professional development for faculty and field supervisors) of the project to prepare scholars, including scholars from racially and ethnically diverse backgrounds, scholars who are multilingual, and scholars with disabilities, to serve children with disabilities and their families, including children and families of color and who are multilingual;

(3) Purchasing needed resources (e.g., additional teaching supplies, technology-based resources, or other specialized equipment to enhance instruction); or

(4) Establishing relationships, which may include developing memorandums of understandings or other formal agreements, with early intervention and early childhood programs or schools, to serve as sites for field or clinical experiences needed to support the project. These sites may include high-need local educational agencies (LEAs),⁸ high-poverty schools,⁹ schools identified for comprehensive support and improvement,¹⁰ and schools implementing a targeted support and improvement plan ¹¹ for children with disabilities; early childhood and early intervention programs located within the geographic boundaries of a high-need LEA; and early childhood and early intervention programs located within the geographical boundaries of an LEA serving the highest percentage of schools identified for comprehensive support and improvement or implementing targeted support and improvement plans in the State.

⁸ For the purposes of this priority, “high-need LEA” means an LEA (a) that serves not fewer than 10,000 children from families with incomes below the poverty line; or (b) for which not less than 20 percent of the children are from families with incomes below the poverty line.

⁹ For the purposes of this priority, “high-poverty school” means a school in which at least 50 percent of students are from low-income families as determined using one of the measures of poverty specified in section 1113(a)(5) of the Elementary and Secondary Education Act of 1965, as amended (ESEA). For middle and high schools, eligibility may be calculated on the basis of comparable data from feeder schools. Eligibility as a high-poverty school under this definition is determined on the basis of the most currently available data.

¹⁰ For the purposes of this priority, “school implementing a comprehensive support and improvement plan” means a school identified for comprehensive support and improvement by a State under section 1111(c)(4)(D) of the ESEA that includes (a) not less than the lowest performing 5 percent of all schools in the State receiving funds under title I, part A of the ESEA; (b) all public high schools in the State failing to graduate one third or more of their students; and (c) public schools in the State described in section 1111(d)(3)(A)(i)(II) of the ESEA.

¹¹ For the purposes of this priority, “school implementing a targeted support and improvement plan” means a school identified for targeted support and improvement by a State that has developed and is implementing a school-level targeted support and improvement plan to improve student outcomes based on the indicators in the statewide accountability system as defined in section 1111(d)(2) of the ESEA.

In addition to requesting up to $100,000 for planning, additional Federal funds may also be requested for scholar support and other grant activities occurring in year one of the project.

Note: Applicants proposing projects to develop, expand, or add a new area of emphasis within the curriculum of early intervention, special education, or related services programs must provide, in their applications, information on how these new areas will be sustained once Federal funding ends.

Note: Project periods under this priority may be up to 60 months. Projects should be designed to ensure that all proposed scholars successfully complete the program within 60 months from the start of the project. The Secretary may reduce continuation awards for any project in which scholar recruitment is not on track or scholars are not on track to complete the program by the end of the 60 months.

To be considered for funding under this absolute priority, applicants must meet the application requirements contained in the priority. All projects funded under this absolute priority also must meet the programmatic and administrative requirements specified in the priority.

To meet the requirements of this priority, an applicant must—

(a) Demonstrate, in the narrative section of the application under “Significance” how—

(1) The proposed project will address the need in the proposed preparation focus area to increase the number of personnel, including increasing the number from racially and ethnically diverse backgrounds, the number of personnel who are multilingual, and the number of personnel with disabilities, who are prepared to provide effective and equitable, evidence-based, and culturally and linguistically responsive instruction, interventions, and services that improve outcomes, including literacy and math outcomes, for children with disabilities;

(2) The proposed project will increase the number of personnel with competencies ¹² in the proposed preparation focus area to provide effective and equitable, evidence-based, and culturally and linguistically responsive instruction, interventions, and services, including through distance education, that improve outcomes, including literacy and math outcomes, for children with disabilities, including children of color with disabilities and children with disabilities who are multilingual; and

¹² For the purposes of this priority, “competencies” means what a person knows and can do—the knowledge, skills, and dispositions necessary to effectively function in a role (National Professional Development Center on Inclusion, 2011).

(3) The applicant has successfully graduated students from its program, including students who are from racially and ethnically diverse backgrounds, students who are multilingual, and students with disabilities, by including data disaggregated by race, national origin and primary language(s), and disability status; and the number of students who have graduated in the last five years.

(b) Demonstrate, in the narrative section of the application under “Quality of project services,” how—

(1) The project will conduct its planning activities if the applicant elects to use up to the first 12 months of the project period and up to $100,000 awarded in the first budget period for planning;

(2) The project will recruit and retain scholars to participate in the project. To meet this requirement, the applicant must describe—

(i) The selection criteria the project will use to identify program applicants for admission into the program;

(ii) The specific recruitment strategies the project will use to attract a diverse pool of applicants, including from groups that are underrepresented in the field, including applicants from racially and ethnically diverse backgrounds, applicants who are multilingual, and applicants with disabilities; and

Note: Applicants should engage in focused outreach and recruitment to increase the number of applicants from groups that are traditionally underrepresented in the field, including applicants from racially and ethnically diverse backgrounds, applicants who are multilingual, and applicants with disabilities, but the selection criteria the applicant intends to use must ensure equal access and treatment of all applicants seeking admission to the program, and must be consistent with applicable law, including Federal civil rights laws.

(iii) The approach that will be used to mentor and support all scholars, including any specific approaches to supporting scholars from groups that are underrepresented in the field, including scholars from racially and ethnically diverse backgrounds, scholars who are multilingual, and scholars with disabilities, with the goal of helping them complete the program within the project period and preparing them for careers in special education, early intervention, or related services;

(3) The project will promote the acquisition of competencies needed by special education, early intervention, or related services personnel in the project's proposed preparation focus area to provide effective and equitable, evidence-based, and culturally and linguistically responsive instruction, interventions, and services that improve outcomes, including literacy and math outcomes, for children with disabilities, including children of color with disabilities and children with disabilities who are multilingual. To address this requirement, the applicant must—

(i) Describe how the proposed components, such as coursework; field or clinical experiences in early intervention, early childhood, or school settings; work-based experiences; or other opportunities provided to scholars, and sequence of the components will enable the scholars to acquire the competencies needed by applicable personnel to serve children with disabilities, including children of color and children who are multilingual in a school or early intervention setting;

(ii) Describe how the proposed project will reflect current evidence-based practices (EBPs) to prepare scholars to provide effective and equitable, evidence-based, and culturally and linguistically responsive instruction, interventions, and services that improve outcomes for children with disabilities, including literacy and math outcomes, including children of color and children who are multilingual, in a variety of early childhood and early intervention settings or educational settings, including in-person and distance learning;

(iii) Describe the pedagogical practices that will be used to ensure that the program is inclusive regarding race, ethnicity, culture, language, and disability status so that scholars are prepared to create inclusive, supportive, equitable, unbiased, and identity-safe learning environments for children with disabilities; and

(iv) Describe how the project will engage various partners, including families of color, families who are multilingual, and parents with disabilities; public or private partnering agencies, schools, or programs, including those that serve racially and ethnically diverse populations, multilingual populations, and children with disabilities; and centers or organizations that provide services to children with disabilities, including children of color with disabilities and children with disabilities who are multilingual, to inform and support project components.

(c) Demonstrate, in the narrative section of the application under “Quality of the project personnel and management plan,” how—

(1) The project director and other key project personnel are qualified to prepare scholars in the project's preparation focus area;

(2) The project director and other key project personnel will manage the components of the project; and

(3) The time commitments of the project director and other key project personnel are adequate to meet the objectives of the proposed project.

(d) Demonstrate, in the narrative section of the application under “Adequacy of resources,” how—

(1) Information regarding the types of accommodations and resources available to fully support scholars' well-being and a work-life balance (e.g., university and community mental health supports, counseling services, health resources, housing resources, child care) will be disseminated and how the project will support scholars to access those accommodations and resources on a timely basis, if needed, while the scholar is in the program;

(2) The types of accommodations and resources provided to support scholars' well-being and a work-life balance will be individualized based on scholars' cultural, academic, social emotional, and disability-related needs with the goals of supporting them to complete the program; and

(3) The budget is adequate for meeting the project objectives and mitigating financial burden to scholars in completing the program of study.

Note: Scholar support does not need to be uniform for all scholars and should be customized for individual scholars based on scholars' financial needs, including consideration of all costs associated with the cost of attendance, even if that means enrolling fewer scholars. Scholar support can include support for cost of attendance (e.g., tuition and fees; university student health insurance; an allowance for books, materials, and supplies; an allowance for miscellaneous personal expenses; an allowance for dependent care, such as child care; and an allowance for room and board), travel in conjunction with training assignments, including conference registration, and stipends to support scholars' completion of the program. Projections for scholar support should consider tuition increases and cost of living increases over the project period.

(e) Demonstrate, in the narrative section of the application under “Quality of the project evaluation,” how the applicant will—

(1) Evaluate how well the goals or objectives of the proposed project have been met. To meet this requirement the applicant must describe—

(i) The relevant outcomes to be measured for both the project and the scholars, particularly the acquisition of scholars' competencies; and

(ii) The evaluation methodologies, data collection methods, and data analyses that will be used; and

(2) Collect and analyze data on all scholars supported by the project, including data disaggregated by race, national origin, primary language(s), and disability status, to inform the proposed project on an ongoing basis.

(f) Demonstrate, in the appendices or narrative under “Required project assurances” as directed, that the following requirements are met. The applicant must—

(1) Include, in Appendix A of the application—

(i) Charts, tables, figures, graphs, screen shots, and visuals that provide information directly relating to the application requirements for the narrative. Appendix A should not be used for supplementary information. Please note that charts, tables, figures, graphs, and screen shots can be single-spaced when placed in Appendix A; and

(ii) A letter of support from a public or private partnering agency, school, or program, that states it will provide scholars with a field or clinical experience in a high-need LEA, a high-poverty school, a school implementing a comprehensive support and improvement plan, a school implementing a targeted support and improvement plan for children with disabilities, a State educational agency, an early childhood or early intervention program located within the geographical boundaries of a high-need LEA, or an early childhood or early intervention program located within the geographical boundaries of an LEA serving the highest percentage of schools identified for comprehensive support and improvement or implementing targeted support and improvement plans in the State;

(2) Include in Appendix B of the application—

(i) A table that lists the project's required coursework and includes the course title, brief description, learning goals, and relevant State or national professional organization personnel standards for each course; and

(ii) Four exemplars of course syllabi required by the degree program that reflect EBPs across the areas of assessment; social, emotional, and behavioral development and learning; inclusive practices; instructional strategies; and literacy if appropriate, and consider the unique needs of children of color with disabilities and children with disabilities who are multilingual;

(3) Include in the application budget attendance by the project director at a three-day project directors' meeting in Washington, DC, during each year of the project; and

(4) Provide an assurance that—

(i) The project will meet the requirements in 34 CFR 304.23, particularly those related to (A) informing all scholarship recipients of their service obligation commitment; and (B) disbursing scholarships. Failure by a grantee to properly meet these requirements is a violation of the grant award that may result in the grantee being liable for returning any misused funds to the Department;

(ii) The project will meet the statutory requirements in section 662(e) through (h) of IDEA;

(iii) The project will be operated in a manner consistent with nondiscrimination requirements contained in Federal civil rights laws;

(iv) All the syllabi for the project's required coursework will be provided at the request of OSEP;

(v) At least 65 percent of the total award over the project period (i.e., up to 60 months) will be used for scholar support;

(vi) Scholar support provided by the project (e.g., tuition and fees; university student health insurance; an allowance for books, materials, and supplies; an allowance for miscellaneous personal expenses; an allowance for dependent care, such as child care; an allowance for room and board) is not conditioned on scholars working for the grantee (e.g., personnel at the IHE);

(vii) The project director, key personnel, and scholars will actively participate in learning opportunities (e.g., webinars, briefings) supported by OSEP. This is intended to promote opportunities for participants to understand reporting requirements, share resources, and generate new ideas by discussing topics of common interest to participants across projects including Department priorities and needs in the field;

(viii) The project website, if applicable, will be of high quality, with an easy-to-navigate design that meets government or industry-recognized standards for accessibility;

(ix) Scholar accomplishments (e.g., public service, awards, publications, conference presentations) will be reported in annual and final performance reports; and

(x) Annual data will be submitted on each scholar who receives grant support (OMB Control Number 1820-0686). The primary purposes of the data collection are to track the service obligation fulfillment of scholars who receive funds from OSEP grants and to collect data for program performance measure reporting under 34 CFR 75.110. Data collection includes the submission of a signed, completed pre-scholarship agreement and exit certification for each scholar funded under an OSEP grant (see paragraph (f)(4)(i) of this priority). Applicants are encouraged to visit the Personnel Development Program Data Collection System website at https://pdp.ed.gov/osep for further information about this data collection requirement.

Competitive Preference Priority: Within this absolute priority, we give competitive preference to applications that address the following priority. Under 34 CFR 75.105(c)(2)(i), we award an additional 3 points to an application that meets the competitive preference priority. Applicants should indicate in the abstract if the competitive preference priority is addressed.

The competitive preference priority is:

Applications from New Potential Grantees (0 or 3 points).

(a) Under this priority, an applicant must demonstrate that the applicant (e.g., the IHE) has not had an active discretionary grant under the ALN 84.325M, 84.325R, or ALN 84.325K in the last five years before the deadline date for submission of applications under this program (ALN 84.325M).

(b) For the purpose of this priority, a grant or contract is active until the end of the grant's or contract's project or funding period, including any extensions of those periods that extend the grantee's or contractor's authority to obligate funds.

References

American Occupational Therapy Association. (2022). 2019 salary workforce survey methods. www.aota.org/Education-Careers/Advance-Career/Salary-Workforce-Survey.aspx.

American Speech-Language Hearing Association. (2021). Communication sciences and disorders (CSD) education survey national aggregate data report: 2020-2021 academic year. www.asha.org/siteassets/surveys/csd-education-survey-national-aggregate-data-report.pdf.

Bryan, N. (2021, May 26). Black male teachers and gender equity in early childhood education. Oxford Research Encyclopedia of Education. https://doi.org/10.1093/acrefore/9780190264093.013.1565.

Carver-Thomas, D. (2018, April). Diversifying the teaching profession through high-retention pathways [Research brief]. Learning Policy Institute. https://learningpolicyinstitute.org/media/164/download?inline&file=Diversifying_Teaching_Profession_BRIEF.pdf.

Carver-Thomas, D. (2018). Diversifying the teaching profession: How to recruit and retain teachers of color. Learning Policy Institute. https://learningpolicyinstitute.org/product/diversifying-teaching-profession-report.

Colorado Department of Higher Education. (2022). Diversifying the educator workforce: Disrupting inequities. https://highered.colorado.gov/Publications/Reports/teachereducation/2022/2022_Diversifying_the_Workforce_FINAL.pdf.

Data USA. (2022) Data USA: Physical Therapists. https://datausa.io/profile/soc/physical-therapists#demographics.

Division of Early Childhood of the Council for Exceptional Children. (2020). The early interventionist/early childhood special educator standards. www.dec-sped.org/ei-ecse-standards.

Gardner, M., Melnick, H., Meloy, B., & Barajas, J. (2019). Promising models for preparing a diverse, high-quality early childhood workforce. Learning Policy Institute. https://learningpolicyinstitute.org/product/preparing-diverse-high-quality-early-childhood-workforce-report.

National Center for Education Statistics. (2022). Racial/Ethnic Enrollment in Public Schools. Condition of Education. U.S. Department of Education, Institute of Education Sciences. https://nces.ed.gov/programs/coe/indicator/cge.

National Professional Development Center on Inclusion. (August, 2011). Competencies for early childhood educators in the context of inclusion: Issues and guidance for States. The University of North Carolina, FPG Child Development Institute.

Ondrasek, N., Carver-Thomas, D., Scott, C., & Darling-Hammond, L. (2020). California's special education teacher shortage (policy brief). Policy Analysis for California Education.

Sutcher, L., Darling-Hammond, L., & Carver-Thomas, D. (2016). A coming crisis in teaching? Teacher supply, demand, and shortages in the U.S. Learning Policy Institute.

U.S. Department of Education. (2022a). EDFacts Data Warehouse: “IDEA Section 618 Part B Child Count and Educational Environments Collection” and “IDEA Section 618 Part C Child Count and Settings Collection,” 2020-21. https://www2.ed.gov/programs/osepidea/618-data/state-level-data-files/index.html.

U.S. Department of Education. (2022b). Characteristics of 2020-21 Public and Private K-12 School Teachers in the United States: Results From the National Teacher and Principal Survey. https://nces.ed.gov/pubs2022/2022113.pdf.

Waiver of Proposed Rulemaking: Under the Administrative Procedure Act (APA) (5 U.S.C. 553) the Department generally offers interested parties the opportunity to comment on proposed priorities. Section 681(d) of IDEA, however, makes the public comment requirements of the APA inapplicable to the priorities in this notice.

Program Authority: 20 U.S.C. 1462 and 1481.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 304.

Note: The regulations in 34 CFR part 86 apply to IHEs only.

II. Award Information

Type of Award: Discretionary grants.

Estimated Available Funds: The Administration has requested $250,000,000 for the Personnel Development to Improve Services and Results for Children with Disabilities program for FY 2024, of which we intend to use an estimated $7,250,000 for this competition. The actual level of funding, if any, depends on final congressional action. However, we are inviting applications to allow enough time to complete the grant process if Congress appropriates funds for this program.

Contingent upon the availability of funds and the quality of applications, we may make additional awards in FY 2025 from the list of unfunded applications from this competition.

Estimated Range of Awards: $1,150,000-$1,250,000.

Estimated Average Size of Awards: $1,200,000.

Maximum Award: We will not make an award exceeding $1,250,000 per project for a project period of 60 months or an award that exceeds $350,000 for any single budget period.

Note: Applicants must describe, in their applications, the amount of funding being requested for each 12-month budget period.

Estimated Number of Awards: 29.

Project Period: Up to 60 months.

Note: The Department is not bound by any estimates in this notice.

III. Eligibility Information

1. Eligible Applicants: HBCUs, TCCUs, MSIs, and private nonprofit organizations associated with HBCUs, TCCUs, and MSIs.

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2.a. Cost Sharing or Matching: Cost sharing or matching is not required for this competition.

b. Indirect Cost Rate Information: This program uses a training indirect cost rate. This limits indirect cost reimbursement to an entity's actual indirect costs, as determined in its negotiated indirect cost rate agreement, or eight percent of a modified total direct cost base, whichever amount is less. For more information regarding training indirect cost rates, see 34 CFR 75.562. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: Under 34 CFR 75.708(b) and (c), a grantee under this competition may award subgrants—to directly carry out project activities described in its application—to the following types of entities: IHEs, nonprofit organizations suitable to carry out the activities proposed in the application, and other public agencies. The grantee may award subgrants to entities it has identified in an approved application or that it selects through a competition under procedures established by the grantee, consistent with 34 CFR 75.708(b)(2).

4. Other General Requirements:

a. Recipients of funding under this competition must make positive efforts to employ and advance in employment qualified individuals with disabilities (see section 606 of IDEA).

b. Applicants for, and recipients of, funding must, with respect to the aspects of their proposed projects relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 7, 2022 (87 FR 75045) and available at www.federalregister.gov/documents/2022/12/07/2022-26554/common-instructions-for-applicants-to-department-of-education-discretionary-grant-programs, which contain requirements and information on how to submit an application.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you limit the application narrative to no more than 40 pages and use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (10 points).

(1) The Secretary considers the significance of the proposed project.

(2) In determining the significance of the proposed project, the Secretary considers the following factors:

(i) The extent to which the proposed project will prepare personnel for fields in which shortages have been demonstrated; and

(ii) The importance or magnitude of the results or outcomes likely to be attained by the proposed project, especially improvements in teaching and student achievement.

(b) Quality of project services (45 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the services to be provided by the proposed project reflect up-to-date knowledge from research and effective practice;

(ii) The extent to which the training or professional development services to be provided by the proposed project are of sufficient quality, intensity, and duration to lead to improvements in practice among the recipients of those services;

(iii) The extent to which the services to be provided by the proposed project involve the collaboration of appropriate partners for maximizing the effectiveness of project services; and

(iv) The extent to which the proposed activities constitute a coherent, sustained program of training in the field.

(c) Quality of project personnel and quality of the management plan (20 points).

(1) The Secretary considers the quality of the project personnel and the quality of the management plan for the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of key project personnel;

(ii) The adequacy of the management plan to achieve the objectives of the proposed project on time and within budget, including clearly defined responsibilities, timelines, and milestones for accomplishing project tasks; and

(iii) The extent to which the time commitments of the project director and principal investigator and other key project personnel are appropriate and adequate to meet the objectives of the proposed project.

(d) Adequacy of resources (10 points).

(1) The Secretary considers the adequacy of resources of the proposed project.

(2) In determining the adequacy of resources of the proposed project, the Secretary considers the following factors:

(i) The adequacy of support, including facilities, equipment, supplies, and other resources, from the applicant organization or the lead applicant organization; and

(ii) The extent to which the costs are reasonable in relation to the objectives, design, and potential significance of the proposed project.

(e) Quality of the project evaluation (15 points).

(1) The Secretary considers the quality of the evaluation to be conducted of the proposed project.

(2) In determining the quality of the evaluation, the Secretary considers the following factors:

(i) The extent to which the methods of evaluation are thorough, feasible, and appropriate to the goals, objectives, and outcomes of the proposed project; and

(ii) The extent to which the methods of evaluation will provide performance feedback and permit periodic assessment of progress toward achieving intended outcomes.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115—232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: For the purposes of Department reporting under 34 CFR 75.110, the Department has established a set of performance measures, including long-term measures, that are designed to yield information on various aspects of the effectiveness and quality of the Personnel Development to Improve Services and Results for Children with Disabilities program. These measures include: (1) the percentage of preparation programs that incorporate scientifically or evidence-based practices into their curricula; (2) the percentage of scholars completing the preparation program who are knowledgeable and skilled in evidence-based practices that improve outcomes for children with disabilities; (3) the percentage of scholars who exit the preparation program prior to completion due to poor academic performance; (4) the percentage of scholars completing the preparation program who are working in the area(s) in which they were prepared upon program completion; (5) the Federal cost per scholar who completed the preparation program; (6) the percentage of scholars who completed the preparation program and are employed in high-need districts; and (7) the percentage of scholars who completed the preparation program and who are rated effective by their employers.

In addition, the Department will gather information on the following outcome measures: the number and percentage of scholars proposed by the grantee in its application that were actually enrolled and making satisfactory academic progress in the current academic year; the number and percentage of enrolled scholars who are on track to complete the training program by the end of the project's original grant period; and the percentage of scholars who completed the preparation program and are employed in the field of special education for at least two years.

Grantees may be asked to participate in assessing and providing information on these aspects of program quality.

6. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search featureat www.federalregister.gov. Specifically, through the advanced search feature at this site, you can limit your search to documents published by the Department.

Glenna Wright-Gallo,
Assistant Secretary for Special Education and Rehabilitative Services.

[FR Doc. 2023-26855 Filed 12-6-23; 8:45 am]

BILLING CODE 4000-01-P